DEPARTMENT OF JUSTICE

Notice of Lodging of Proposed Consent Decree Under the Comprehensive Environmental Response, Compensation, and Liability Act

On June 3, 2022, the Department of Justice lodged a proposed Consent Decree with the United States District Court for the Western District of North Carolina in the lawsuit entitled United States v. Fred D. Godley, Jr.; 436 Cone Avenue, LLC, and F.D. Godley Number Three, LLC, Civil Action No. 3:19-cv-00202-RJC-DSC. In the filed Complaint, the United States, on behalf of the U.S. Environmental Protection Agency (“EPA”), alleges that the Defendants are liable under the Comprehensive Environmental Response, Compensation, and Liability Act (“CERCLA”), 42 U.S.C. 9607(a), for the response costs EPA incurred responding to the Pineville Mill Site, located at 436 Cone Ave., Pineville, North Carolina and for work EPA conducted at the Old Davis Site, located at 706 and 709 West End Avenue in Statesville, North Carolina, both of which one or more of the Defendants owned and/or operated. The Consent Decree requires the Defendants to pay $1,250,000.00 million in a lump sum to the United States for the settlement of the allegations in the filed Complaint. The Consent Decree also requires Defendant Fred D. Godley to provide EPA notice, information, and access and ensure proper asbestos inspections and abatement whenever he undertakes demolition activities in the future on properties that he owns or controls.

The publication of this notice opens a period for public comment on the Consent Decree. Comments should be addressed to the Assistant Attorney General, Environment and Natural Resources Division, and should refer to United States v. Fred D. Godley, Jr., 436 Cone Avenue, LLC, and F.D. Godley Number Three, LLC, D.J. Ref. No. 90-11-3-11692. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $6.75 (25 cents per page reproduction cost), payable to the United States Treasury.

Lori Jonas,
Assistant Section Chief, Environmental Enforcement Section, Environment & Natural Resources Division.

[FR Doc. 2022-12358 Filed 6-7-22; 8:45 am]

BILLING CODE 4410-15-P